DEPARTMENT OF LABOR

Office of the Secretary

Submission for OMB Review: Comment Request

December 19, 2007.

The Department of Labor (DOL) hereby announces the submission of the following public information collection request (ICR) to the Office of Management and Budget (OMB) for review and approval in accordance with the Paperwork Reduction Act of 1995 (Pub. L. 104-13, 44 U.S.C. chapter 35). A copy of the ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Brian A. Harris-Kojetin, OMB Desk Officer for the Bureau of Labor Statistics (BLS), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension without change of a currently approved collection.

Title of Collection: Census of Fatal Occupational Injuries.

OMB Control Number: 1220-0133.

Agency Form Number: BLS CFOI-1.

Affected Public: Business or other for-profit; Not-for-profit institutions; Federal Government; State, Local, or Tribal Government; and individuals or households.

Estimated Number of Respondents: 1,949.

Estimated Total Annual Burden Hours: 3,763.

Estimated Total Annual Costs Burden: $0.

Description: The Census of Fatal Occupational Injuries is authorized by section 24(a) of the Occupational Safety and Health Act of 1970 (Pub. L. 91-596) and provides policymakers and the public with comprehensive, verifiable, and timely measures of fatal work injuries. Data are complied from various Federal, State, and local sources and include information on how the incident occurred as well as various characteristics of the employers and the deceased worker. This information is used for surveillance of fatal work injuries and for developing prevention strategies. For additional information, see related notice published on October 4, 2007 at 72 FR 192.

Darrin A. King,
Acting Departmental Clearance Officer.

[FR Doc. E7-25021 Filed 12-26-07; 8:45 am]

BILLING CODE 4510-24-P